DEPARTMENT OF HEALTH AND HUMAN SERVICES

Centers for Medicare & Medicaid Services

[CMS-5502-N]

Medicare Program; Accelerated Development Sessions for Accountable Care Organizations—June 20, 21, and 22, 2011

AGENCY: Centers for Medicare & Medicaid Services (CMS), HHS.

ACTION: Notice of meeting.

SUMMARY: This notice announces the first of four accelerated development sessions (ADSs) that will provide executives with the opportunity to learn about core functions of an Accountable Care Organization (ACO) and ways to build their organization's capacity to succeed as an ACO. This 3-day, in-person ADS is to help new ACOs deliver better care and reduce costs. We invite all new or newly emerging ACOs to register a team of senior executives to participate.

DATES: Meeting Dates: Monday, June 20, 2011, 1 p.m. to 7:15 p.m., central standard time (c.d.t.); Tuesday, June 21, 2011, 8 a.m. to 5:45 p.m., (c.d.t.); Wednesday, June 22, 2011, 8 a.m. to 12 p.m. (c.d.t.).

Deadline for Meeting Registration: All teams must register by Monday, June 20, 2011.

ADDRESSES: Meeting Location: The first ADS will be held at the Doubletree by Hilton, Minneapolis-Park Place, 1500 Park Place Boulevard, Minneapolis, MN 55416. Meeting Registration: Individuals and teams wishing to participate must complete the online registration located at https://acoregister.rti.org. Potential participants are also strongly encouraged to complete the comprehensive planning tool discussed in section III of this notice before arriving to the meeting.

FOR FURTHER INFORMATION CONTACT: Additional information is available on the registration Web site at https://acoregister.rti.org. Click on “contact us” to send questions or comments via e-mail. Press inquiries are handled through the CMS Press Office at (202) 690-6145.

SUPPLEMENTARY INFORMATION:

I. Background

Section 1115A of the Social Security Act (the Act), as added by section 3021 the Affordable Care Act, established the Center for Medicare and Medicaid Innovation (Innovation Center) for the purpose of examining new ways of delivering health care and paying health care providers in ways that can save money for Medicare and Medicaid while improving the quality of care for our beneficiaries. Through accelerated development sessions (ADSs), the Innovation Center will test whether intensive shared learning activities will expand and improve the capabilities of provider organizations to coordinate the care of a population of Medicare beneficiaries more effectively than organizations that do not participate in the ADSs. Well coordinated care can improve beneficiaries' quality outcomes and reduce the growth of Medicare expenditures.

Completion of the ADS will not be a factor for selection or participation in a CMS ACO program. It is intended to provide new ACOs with the opportunity to learn from their peers about essential ACO functions and various ways to build capacity needed to achieve better care for individuals, better population health, and lower growth in health care expenditures.

II. Session Participant Information and Agenda

Faculty at each ADS will be senior leadership from organizations that have already developed many of the characteristics of an ACO, and other experts in ACO core competencies—practitioners with first-hand experience with what is working and not working in the field. Each will offer a focused curriculum on core competencies for ACO development within four main areas: leadership and priority-setting; the clinical and operating challenge of transforming care delivery, including use of health IT; the managerial and financial challenge of assuming and managing risk; and meeting patient needs while reducing the total cost of care. Individual sessions and faculty will help participants complete corresponding sections of a comprehensive ACO implementation plan, including defining ACO goals and an action plan for establishing ACO core competencies.

Each participating team should consist of two to four senior-level leaders (including at least one executive with financial/management responsibility and one with clinical responsibility). Participants are also asked to attend future Web based seminars and complete a full ACO implementation plan as part of the broader ADS initiative to facilitate on-going learning and evaluation.

The agenda for the first ADS is available online at https://acoregister.rti.org.

III. Completion of Planning Tool and Session Registration Information

Registrants need to complete the registration form in order to participate in an ACO ADS. Potential participants are also strongly encouraged to complete a comprehensive planning tool, which will allow them to take full advantage of the hands-on learning activities during the ADS. The registration form and comprehensive planning tool are available on the ACO ADS Web site at https://acoregister.rti.org.

This session is open to the public. However, space is limited and participants are encouraged to register as soon as possible. Registration for this session will remain open until the date specified in the DATES section of this notice or the seating capacity has been reached.

Participants are responsible for their own travel, parking, meals, and overnight-stay expenses. More information about the venue and accommodations can be found at https://aco-adsregister.rti.org.

Subsequent ADSs will be offered in other locations in different regions around the country at later dates to be determined. Information for all future ADSs will be posted online at https://acoregister.rti.org as they become available.

Authority: Section 1115A of the Act.

Dated: May 16, 2011.
Donald M. Berwick,
Administrator, Centers for Medicare & Medicaid Services.

[FR Doc. 2011-12342 Filed 5-17-11; 8:45 am]

BILLING CODE 4120-01-P